DEPARTMENT OF THE TREASURY

Internal Revenue Service

Open Meeting of the Joint Committee of the Taxpayer Advocacy Panel

AGENCY: Internal Revenue Service (IRS) Treasury.

ACTION: Notice.

SUMMARY: An open meeting of the Joint Committee of the Taxpayer Advocacy Panel will be conducted. The Taxpayer Advocacy Panel is reviewing public comment, ideas, and suggestions on improving customer service at the Internal Revenue Service brought forward by the Area and Issue Committees.

DATES: The meeting will be held Thursday, September 15, 2005, 1 p.m. to 5 p.m., Friday, September 16, 2005, 8:30 a.m. to 5 p.m., and Saturday, September 17, 2005, 8 a.m. to Noon, Pacific time.

FOR FURTHER INFORMATION CONTACT: Barbara Toy at 1-888-912-1227, or 414-297-1611.

SUPPLEMENTARY INFORMATION: Notice is hereby given pursuant to section 10(a)(2) of the Federal Advisory Committee Act, 5 U.S.C. App. (1988) that an open meeting of the Joint Committee of the Taxpayer Advocacy Panel (TAP) will be held Thursday, September 15, 2005, 1 p.m. to 5 p.m., Friday, September 16, 2005, 8:30 a.m. to 5 p.m., and Saturday, September 17, 2005, 8 a.m. to noon, Pacific time, at the Flamingo Las Vegas, 3555 Las Vegas Boulevard South, Las Vegas, NV 89109. If you would like to have the Joint Committee of TAP consider a written statement, please call 1-888-912-1227 or 414-297-1611, or write Barbara Toy, TAP Office, MS-1006MIL, 310 West Wisconsin Avenue, Milwaukee, WI 53203-2221, or FAX to 414-297-1623, or you can contact us at http://www.improveirs.org.

The agenda will include the following: Monthly committee summary report, discussion of issues brought to the joint committee, office reports, and discussion of next meeting.

Dated: August 8, 2005.
Martha Curry,
Acting Director, Taxpayer Advocacy Panel.

[FR Doc. E5-4416 Filed 8-15-05; 8:45 am]

BILLING CODE 4830-01-P